DEPARTMENT OF COMMERCE

National Oceanic and Atmospheric Administration

[I.D. 060501D]

Marine Mammals; File No.775-1600-01

AGENCY: National Marine Fisheries Service (NMFS), National Oceanic and Atmospheric Administration (NOAA), Commerce.

ACTION: Issuance of permit amendment.

SUMMARY: Notice is hereby given that Permit No. 775-1600, issued to Dr. Micheal P. Sissenwine, Northeast Fisheries Science Center, NMFS,166 Water Street, Woods Hole, Massachusetts 02543-1026, has been amended to include takes of 28 species of cetacean for purposes of scientific research.

DATES: Written or telefaxed comments must be received on or before July 18, 2001.

ADDRESSES: The amended permit and related documents are available for review upon written request or by appointment in the following office(s):

Permits and Documentation Division, Office of Protected Resources, NMFS, 1315 East-West Highway, Room 13130, Silver Spring, MD 20910 (301/713-2289); and Northeast Region, NMFS, One Blackburn Drive, Gloucester, MA 01930-2298; phone (508)281-9250; fax (508)281-9371.

FOR FURTHER INFORMATION CONTACT: Tammy Adams or Ruth Johnson, 301/713-2289.

SUPPLEMENTARY INFORMATION: On October 27, 2000, notice was published in the Federal Register (65 FR 64432) that a request for a scientific research permit to take seven species of baleen whale, 21 species of odontocetes, and four species of pinnipeds had been submitted by the above-named organization.

The requested permit was issued for the four species of pinniped only, under the authority of the Marine Mammal Protection Act of 1972, as amended (16 U.S.C. 1361 et seq.), and the Regulations Governing the Taking and Importing of Marine Mammals (50 CFR part 216), pending completion of a consultation on the proposed activities on the species of cetacean listed as endangered, as required under Section 7 of the Endangered Species Act.

The subject amendment was issued for the 28 species of cetacean under the authority of the MMPA, as amended, the Regulations Governing the Taking and Importing of Marine Mammals (50 CFR part 216), the Endangered Species Act of 1973, as amended (ESA; 16 U.S.C. 1531 et seq.), and the regulations governing the taking, importing, and exporting of endangered and threatened species (50 CFR parts 222-226).

Issuance of this amendment, as required by the ESA, was based on a finding that such permit: (1) was applied for in good faith; (2) will not operate to the disadvantage of the endangered species which are the subject of this permit; and (3) is consistent with the purposes and policies set forth in section 2 of the ESA.

Dated: June 11, 2001.
Ann D. Terbush,
Chief, Permits and Documentation Division, Office of Protected Resources, National Marine Fisheries Service.

[FR Doc. 01-15193 Filed 6-15-01; 8:45 am]

BILLING CODE 3510-22-S